DEPARTMENT OF TRANSPORTATION

Coast Guard

33 CFR Part 165

[CGD09-01-129]

RIN 2115-AA97

Security Zone; Selfridge Army National Guard Base, MI

AGENCY: Coast Guard, DOT.

ACTION: Final rule; correction.

SUMMARY: The Coast Guard published a final rule on September 24, 2001, creating a security zone surrounding the waters off of Selfridge Air National Guard Base in Michigan. The original parameters of that zone extended one half mile from the shore, between the Hall Road launch ramp and the entrance to Mac and Rays Marina, and the rule had no expiration date. In the interest of small businesses within that zone, COTP Detroit has readjusted the northern boundary to allow these businesses to continue to operate, and an expiration date has been inserted into the rule. The security zone is needed to protect the Selfridge area from terrorist threats.

DATES: This correction becomes effective October 10, 2001. 33 CFR 165.T09-998 published September 24, 2001 (66 FR 48796), as corrected in this document, is now effective only through June 15, 2002.

FOR FURTHER INFORMATION CONTACT: ENS Brandon Sullivan, U.S. Coast Guard Marine Safety Office Detroit, (313) 568-9580.

Background and Purpose

The Coast Guard published a final rule in the Federal Register on September 24, 2001, (66 FR 48795), to create a security zone in response to the September 11, 2001 terrorist attacks on the United States. We are changing the location of the northern boundary of the security Zone and the duration of rule.

Need for Correction

Since publication, Captain of the Port Detroit has learned that a more southerly boundary would help facilitate local business owners. This readjustment in no ways compromises the intent of the original security zone. The regulation was published in response to the terrorist's attacks on the World Trade Center and the Pentagon on September 11, 2001. The security zone is intended to protect the life, property, and national security of U.S. citizens. These factors were considered along with the impact on local business in reestablishing the boundaries and effective period of this security zone.

Correction of Publication

In rule FR Doc. 01-23712 published on September 24, 2001, make the following corrections. On page 48796, in the second column, on lines 37-39, remove the phrase “one half mile from shore between the Hall Road Launch Ramp and the entrance to Mac and Rays Marina” and add, in its place, the phrase “, starting at 42°37.8′ N, 082°49.1′ W; eastward one half mile from shore at42°37.8′ N, 082°48.45′ W; south to 42°37.2′ N, 082°48.45′ W; then southeast to 42°36.8′ N, 082°47.2′ W; then southwest to Mac and Rays Marina at 42°36.4′ N, 082°47.9′ W; and then following the shoreline back to the starting point. These coordinates are based upon North American Datum 1983”; and on lines 41-42, remove the phrase “becomes effective at 2 p.m. September 11, 2001” and add, in its place, the phase “is effective from September 11, 2001 through June 15, 2002”.

Dated: October 10, 2001.
P.G. Gerrity,
Commander, U.S. Coast Guard, Captain of the Port Detroit, Detroit, MI.

[FR Doc. 01-26153 Filed 10-17-01; 8:45 am]

BILLING CODE 4910-15-U